DEPARTMENT OF ENERGY

Federal Energy Regulatory Commission

Combined Notice of Filings #1

Take notice that the Commission received the following electric corporate filings:

Docket Numbers: EC16-82-000.

Applicants: Lakewood Cogeneration, LP, Essential Power Rock Springs, LLC, Essential Power OPP, LLC, Essential Power Newington, LLC, Essential Power Massachusetts, LLC, Essential Power, LLC, Nautilus Generation, LLC.

Description: Supplement (updated Exhibit JRS-8) to February 25, 2016 Application for Authorization for Disposition of Jurisdictional Facilities of Essential Power, LLC, et al.

Filed Date: 4/12/16.

Accession Number: 20160412-5334.

Comments Due: 5 p.m. ET 4/22/16.

Take notice that the Commission received the following electric rate filings:

Docket Numbers: ER11-3576-013; ER11-3401-012.

Applicants: Golden Spread Electric Cooperative, Inc., Golden Spread Panhandle Wind Ranch, LLC.

Description: Notice of Non-material Change in Status of Golden Spread Electric Cooperative, Inc., et al.

Filed Date: 4/13/16.

Accession Number: 20160413-5152.

Comments Due: 5 p.m. ET 5/4/16.

Docket Numbers: ER15-2453-001; ER13-1489-008; ER13-1488-006.

Applicants: Passadumkeag Windpark, LLC, Quantum Lake Power, LP, Quantum Pasco Power, LP.

Description: Notice of Non-Material Change in Status of the Quantum Entities.

Filed Date: 4/13/16.

Accession Number: 20160413-5153.

Comments Due: 5 p.m. ET 5/4/16.

Docket Numbers: ER15-2568-003.

Applicants: Duke Energy Progress, LLC.

Description: Compliance filing: Name Change Filing Compliance Filing to be effective 11/1/2015.

Filed Date: 4/13/16.

Accession Number: 20160413-5068.

Comments Due: 5 p.m. ET 5/4/16.

Docket Numbers: ER16-40-002.

Applicants: Nevada Power Company.

Description: Compliance filing: OATT Supplement to Attachment O with 792 additions and EIM to be effective 11/1/2014.

Filed Date: 4/13/16.

Accession Number: 20160413-5208.

Comments Due: 5 p.m. ET 5/4/16.

Docket Numbers: ER16-139-002.

Applicants: Southwest Power Pool, Inc.

Description: Compliance filing: Compliance Filing in ER16-139—Revisions to Attachment W to Update GFAs to be effective 1/1/2016.

Filed Date: 4/13/16.

Accession Number: 20160413-5086.

Comments Due: 5 p.m. ET 5/4/16.

Docket Numbers: ER16-521-001.

Applicants: Midcontinent Independent System Operator, Inc.

Description: Compliance filing: 2016-04-12_Attachment Y align to PRA Compliance Filing to be effective 2/12/2016.

Filed Date: 4/12/16.

Accession Number: 20160412-5293.

Comments Due: 5 p.m. ET 5/3/16.

Docket Numbers: ER16-1387-000.

Applicants: South Carolina Electric & Gas Company.

Description: Section 205(d) Rate Filing: Winnsboro PSA FERC Filing to be effective 4/11/2016.

Filed Date: 4/12/16.

Accession Number: 20160412-5277.

Comments Due: 5 p.m. ET 5/3/16.

Docket Numbers: ER16-1388-000.

Applicants: Southern California Edison Company.

Description: Section 205(d) Rate Filing: 2016 Revised Added Facilities Rate under WDAT 1 to be effective 1/1/2016.

Filed Date: 4/12/16.

Accession Number: 20160412-5281.

Comments Due: 5 p.m. ET 5/3/16.

Docket Numbers: ER16-1389-000.

Applicants: PJM Interconnection, L.L.C.

Description: Section 205(d) Rate Filing: Original Service Agreement No. 4446; Queue AB1-095 (WMPA) to be effective 3/23/2016.

Filed Date: 4/13/16.

Accession Number: 20160413-5075.

Comments Due: 5 p.m. ET 5/4/16.

Docket Numbers: ER16-1390-000.

Applicants: Southwest Power Pool, Inc.

Description: Notice of Cancellation of Generator Interconnection Agreement of Southwest Power Pool, Inc.

Filed Date: 4/13/16.

Accession Number: 20160413-5116.

Comments Due: 5 p.m. ET 5/4/16.

Docket Numbers: ER16-1391-000.

Applicants: Duquesne Light Company.

Description: Section 205(d) Rate Filing: Revised Tariff 2016 Normal to be effective 6/13/2016.

Filed Date: 4/13/16.

Accession Number: 20160413-5130.

Comments Due: 5 p.m. ET 5/4/16.

Docket Numbers: ER16-1392-000.

Applicants: Duquesne Power, LLC.

Description: Section 205(d) Rate Filing: Revised Tariff 2016 Normal to be effective 6/13/2016.

Filed Date: 4/13/16.

Accession Number: 20160413-5131.

Comments Due: 5 p.m. ET 5/4/16.

Docket Numbers: ER16-1393-000.

Applicants: Southern California Edison Company.

Description: Section 205(d) Rate Filing: Filing to Modify Retail Standby Rate Design in SCE's Formula Transmission Rate to be effective 6/13/2016.

Filed Date: 4/13/16.

Accession Number: 20160413-5147.

Comments Due: 5 p.m. ET 5/4/16.

Docket Numbers: ER16-1394-000.

Applicants: Southern California Edison Company.

Description: Section 205(d) Rate Filing: 2016 Revised Added Facilities Rate under WDAT—Filing No. 3 to be effective 1/1/2016.

Filed Date: 4/13/16.

Accession Number: 20160413-5174.

Comments Due: 5 p.m. ET 5/4/16.

Docket Numbers: ER16-1395-000.

Applicants: PacifiCorp.

Description: Tariff Cancellation: Termination of Pavant Solar III E&P Agreement to be effective 6/20/2016.

Filed Date: 4/13/16.

Accession Number: 20160413-5190.

Comments Due: 5 p.m. ET 5/4/16.

Docket Numbers: ER16-1396-000.

Applicants: Virginia Electric and Power Company, PJM Interconnection, L.L.C.

Description: Section 205(d) Rate Filing: Dominion submits revisions to Att H-16C re: Other Post-Employment Benefits to be effective 6/12/2016.

Filed Date: 4/13/16.

Accession Number: 20160413-5213.

Comments Due: 5 p.m. ET 5/4/16.

Docket Numbers: ER16-1397-000.

Applicants: Southern California Edison Company.

Description: Section 205(d) Rate Filing: 2016 Revised Added Facilities Rate under WDAT—Filing No. 2 to be effective 1/1/2016.

Filed Date: 4/13/16.

Accession Number: 20160413-5224.

Comments Due: 5 p.m. ET 5/4/16.

Docket Numbers: ER16-1398-000.

Applicants: Provision Power & Gas, LLC.

Description: Baseline eTariff Filing: Market-Based Rates Tariff to be effective 5/1/2016.

Filed Date: 4/13/16.

Accession Number: 20160413-5237.

Comments Due: 5 p.m. ET 5/4/16.

Docket Numbers: ER16-1399-000.

Applicants: Solar Star California XLI, LLC.

Description: Baseline eTariff Filing: Shared Facilities Agreement, FERC Electric Rate Schedule No. 1 to be effective 4/14/2016.

Filed Date: 4/13/16.

Accession Number: 20160413-5239.

Comments Due: 5 p.m. ET 5/4/16.

Take notice that the Commission received the following electric securities filings:

Docket Numbers: ES16-27-000.

Applicants: Orange and Rockland Utilities, Inc.

Description: Application of Orange and Rockland Utilities, Inc. under ES16-27 for an order pursuant to Section 204 of the Federal Power Act authorizing the issue of short-term debt.

Filed Date: 4/13/16.

Accession Number: 20160413-5151.

Comments Due: 5 p.m. ET 5/4/16.

Take notice that the Commission received the following open access transmission tariff filings:

Docket Numbers: OA07-19-012; OA07-43-013; ER07-1171-013.

Applicants: Arizona Public Service Company.

Description: Arizona Public Service Company submits its annual compliance report on penalty assessments and distributions in OA07-19, et al.

Filed Date: 4/13/16.

Accession Number: 20160413-5173.

Comments Due: 5 p.m. ET 5/4/16.

Take notice that the Commission received the following qualifying facility filings:

Docket Numbers: QF16-716-000.

Applicants: NRG HQ DG LLC.

Description: Form 556 of NRG HQ DG LLC.

Filed Date: 4/13/16.

Accession Number: 20160413-5121.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2016.
Kimberly D. Bose,
Secretary.

[FR Doc. 2016-08964 Filed 4-18-16; 8:45 am]

BILLING CODE 6717-01-P